DEPARTMENT OF THE INTERIOR

Bureau of Land Management

[LLMT926000-11-L14200000-BJ0000]

Notice of Filing of Plats of Survey; Montana

AGENCY: Bureau of Land Management, Interior.

ACTION: Notice of filing of plats of survey.

SUMMARY: The Bureau of Land Management (BLM) will file the plat of survey of the lands described below in the BLM Montana State Office, Billings, Montana, on March 18, 2011.

DATES: Protests of the survey must be filed before March 18, 2011 to be considered.

ADDRESSES: Protests of the survey should be sent to Branch of Cadastral Survey, Bureau of Land Management, 5001 Southgate Drive, Billings, Montana 59101-4669.

FOR FURTHER INFORMATION CONTACT: Josh Alexander, Cadastral Surveyor, Branch of Cadastral Survey, Bureau of Land Management, 5001 Southgate Drive, Billings, Montana 59101-4669, telephone (406) 896-5123 or (406) 896-5009.

SUPPLEMENTARY INFORMATION: This survey was executed at the request of the Bureau of Land Management, Dillon Field Office, and was necessary to determine federal interest lands.

The lands we surveyed are:

Principal Meridian, Montana

T. 2 S., R. 3 W.

The plat, in one sheet, representing the dependent resurvey of Mineral Survey No. 5856B, Charity Mill Site and Supplemental Plat, Township 2 South, Range 3 West, Principal Meridian, Montana, was accepted January 27, 2011.

We will place a copy of the plat, in one sheet, in the open files. It will be available to the public as a matter of information. If the BLM receives a protest against this survey, as shown on this plat, in one sheet, prior to the date of the official filing, we will stay the filing pending our consideration of the protest. We will not officially file this plat, in one sheet, until the day after we have accepted or dismissed all protests and they have become final, including decisions or appeals.

Authority: 43 U.S.C. Chap. 3.

Dated: February 9, 2011.
James D. Claflin,
Chief Cadastral Surveyor, Division of Resources.

[FR Doc. 2011-3544 Filed 2-15-11; 8:45 am]

BILLING CODE 4310-$$-P